DEPARTMENT OF DEFENSE

Office of the Secretary

[Transmittal No. 17-42]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-42 with attached Policy Justification and Sensitivity of Technology.

Dated: October 18, 2017.
Aaron Siegel,
Alternate OSD Federal Register Liaison Officer, Department of Defense.

BILLING CODE 5001-06-P

BILLING CODE 5001-06-C

Transmittal No. 17-42

Notice of Proposed Issuance of Letter of Offer Pursuant to Section 36(b)(1) of the Arms Export Control Act, as amended

(i) Prospective Purchaser: Government of Japan

(ii) Total Estimated Value:

Major Defense Equipment * | $108 million
Other | $ 5 million
TOTAL | $113 million

(iii) Description and Quantity or Quantities of Articles or Services under Consideration for Purchase:

Major Defense Equipment (MDE):

Fifty-six (56) AIM-120C-7 Advanced Medium Range Air-to-Air Missiles (AMRAAMs)

Non-MDE includes:

Containers, weapon support and support equipment, spare and repair parts, U.S. Government and contractor engineering, technical and logistical support services, and other related elements of logistical and program support.

(iv) Military Department: Air Force (X7-D-YAK)

(v) Prior Related Cases, if any: JA-D-YAI, JA-D-YAH

(vi) Sales Commission, Fee, etc., Paid, Offered, or Agreed to be Paid: None

(vii) Sensitivity of Technology Contained in the Defense Article or Defense Services Proposed to be Sold: See Attached Annex

(viii) Date Report Delivered to Congress: October 4, 2017

* As defined in Section 47(6) of the Arms Export Control Act.

POLICY JUSTIFICATION

Japan—AIM-120C-7 Advanced Medium-Range Air-to-Air Missiles (AMRAAMs)

The Government of Japan has requested a possible sale of fifty-six (56) AIM 120C-7 Advanced Medium Range Air-to-Air Missiles (AMRAAMs). Also included are containers, weapon support and support equipment, spare and repair parts, U.S. Government and contractor engineering, technical and logistical support services, and other related elements of logistical and program support. The total estimated program cost is $113 million.

This sale will support the foreign policy and national security of the United States by meeting the security and defense needs of a major ally and partner nation. Japan continues to be an important force for peace, political stability, and economic progress in the Asia-Pacific region.

The proposed sale will provide Japan a critical air defense capability to assist in defending the Japanese homeland and U.S. personnel stationed there. Japan will have no difficulty absorbing these additional munitions into the Japan Air Self-Defense Force.

The proposed sale of this equipment and support will not alter the basic military balance in the region.

The principal contractor will be Raytheon Missile Systems, Tucson, Arizona. There are no offset arrangements proposed in connection with this potential sale.

Implementation of this proposed sale will not require the assignment of U.S. Government or contractor representatives to Japan.

There will be no adverse impact on U.S. defense readiness as a result of this proposed sale.

Transmittal No. 17-42

Notice of Proposed Issuance of Letter of Offer Pursuant to Section 36(b)(1) of the Arms Export Control Act

Annex

Item No. vii

(vii) Sensitivity of Technology:

1. The proposed sale will involve the release of sensitive technology to the Government of Japan related to the AIM-120C Advanced Medium Range Air-to-Air (AMRAAM). The AIM-120C AMRAAM is a radar guided missile featuring digital technology and micro-miniature solid-state electronics. AMRAAM capabilities include look-down/shoot-down, multiple launches against multiple targets, resistance to electronic countermeasures, and interception of high flying, low flying, and maneuvering targets. The AMRAAM All Up Round is classified CONFIDENTIAL, major components and subsystems range from UNCLASSIFIED to CONFIDENTIAL, and technology data and other documentation are classified up to SECRET.

2. If a technologically advanced adversary were to obtain knowledge of the specific hardware and software elements, the information could be used to develop countermeasures or an equivalent system which might reduce system effectiveness or be used in the development of a system with similar or advanced capabilities.

3. A determination has been made that Japan can provide substantially the same degree of protection for the sensitive technology being released as the U.S. Government. This sale is necessary in furtherance of the U.S. foreign policy and national security objectives outlined in the Policy Justification.

4. All defense articles and services listed in this transmittal have been authorized for release and export to Japan.

[FR Doc. 2017-22968 Filed 10-23-17; 8:45 am]

BILLING CODE 5001-06-P